ELECTION ASSISTANCE COMMISSION

Sunshine Act Notice

AGENCY: U.S. Election Assistance Commission.

ACTION: Notice of public meeting for EAC Board of Advisors.

DATE AND TIME: Wednesday, June 16, 2010, 9 a.m.-5 p.m. and

Thursday, June 17, 2010, 9 a.m.-5:30 p.m. and

Friday, June 18, 2010, 9 a.m.-12 Noon.

PLACE: Phoenix Park Hotel, 520 North Capitol Street, NW., Washington, DC 20001, phone number (202) 638-6900.

PURPOSE: The U.S. Election Assistance Commission (EAC) Board of Advisors, as required by the Help America Vote Act of 2002, will meet to receive updates on EAC program activities. The Board will receive updates on Voting System Testing and Certification programs, including UOCAVA Pilot Program Voting Systems. The Board will receive a presentation by the National Institute of Standards and Technology on UOCAVA Voting Systems Threat Analysis. The Board will receive updates on research and studies, including draft election management guidelines: chapters on Technology in Elections, Elections Office Administration and Accessibility. The Board will receive an update on an EAC Clearinghouse. The Board will receive updates on the EAC Grants programs. The Board will hear committee reports, elect officers and consider other administrative matters.

Members of the public may observe but not participate in EAC meetings unless this notice provides otherwise. Members of the public may use small electronic audio recording devices to record the proceedings. The use of other recording equipment and cameras requires advance notice to and coordination with the EAC's Communications Office.*

* View EAC Regulations Implementing Government in the Sunshine Act.

This meeting will be open to the public.

PERSON TO CONTACT FOR INFORMATION: Bryan Whitener, telephone: (202) 566-3100.

Gracia M. Hillman,
Commissioner, U.S. Election Assistance Commission.

[FR Doc. 2010-13114 Filed 5-27-10; 11:15 am]

BILLING CODE 6820-KF-P